DEPARTMENT OF LABOR

Employment and Training Administration

[TA-W-40,599]

Erie Concrete & Steel Supply Co., Erie, PA; Notice of Termination of Investigation

Pursuant to section 221 of the Trade Act of 1974, an investigation was initiated on January 22, 2002, in response to a petition filed by the company on behalf of workers at Erie Concrete & Steel Supply Co., Erie, Pennsylvania.

The petitioner has requested that the petition be withdrawn. Consequently, further investigation in this case would serve no purpose, and the investigation has been terminated.

Signed in Washington, DC this 26th day of April 2002.
Linda G. Poole,
Certifying Officer, Division of Trade Adjustment Assistance.

[FR Doc. 02-12379 Filed 5-16-02; 8:45 am]

BILLING CODE 4510-30-M